DEPARTMENT OF ENERGY

Notice of Intent To Prepare an Environmental Impact Statement for the Western Greenbrier Co-Production Demonstration Project, Rainelle, WV and Notice of Floodplain/Wetlands Involvement

AGENCY: Department of Energy.

ACTION: Notice of Intent to prepare an Environmental Impact Statement and Notice of Floodplain/Wetlands Involvement.

SUMMARY: The U.S. Department of Energy (DOE) announces its intent to prepare an Environmental Impact Statement (EIS) pursuant to the National Environmental Policy Act (NEPA), the Council on Environmental Quality (CEQ) NEPA regulations (40 CFR Parts 1500-1508), and the DOE NEPA regulations (10 CFR Part 1021), to assess the potential environmental impacts of a proposed project by Western Greenbrier Co-Gen LLC (WGC) to design, construct, and operate, in Rainelle, Greenbrier County, West Virginia, a demonstration facility that would use an innovative atmospheric-pressure circulating fluidized-bed (ACFB) boiler as the source of heat for the co-production of electricity, steam and structural brick. The proposed project, selected under the Clean Coal Power Initiative competitive solicitation, would be the first demonstration in the United States of a compact inverted cyclone configuration for the boiler design. This design has a 40 percent smaller footprint than a conventional boiler system of similar capacity.

The proposed power station would produce 85 MW (megawatts) of net electrical power plus 10,000-30,000 pounds per hour of steam and hot water. Steam and hot water from the proposed facility would serve an industrial park, which the host municipality has planned for land adjoining the power plant. Fuel for the power plant would be coal wastes from waste piles within the surrounding area. When necessary to raise the BTU content of the fuel, quality coal would be blended with the waste coal. The proposed project would also be a first demonstration of the utilization of coal combustion ash and wood wastes for the manufacture of molded building blocks, known as Woodbrik™, to supply the regional construction materials market. All ash that is not used in by-product manufacture would be returned to the coal waste source sites to be used in the mitigation of acid leachate.

The EIS will evaluate the proposed project and reasonable alternatives. Because the proposed project would affect a floodplain and may affect wetlands, the EIS will include a floodplain assessment and wetlands assessment and DOE will prepare a floodplain statement of findings in accordance with DOE regulations for compliance with floodplain/wetlands environmental review requirements (10 CFR part 1022).

The EIS will help DOE decide whether to provide 50 percent (approximately $107.5 million) of the total estimated funding of $215 million for the proposed project. The purpose of this Notice of Intent is to inform the public about the proposed project; announce plans for a public scoping meeting; invite public participation in the EIS process; and solicit public comments for consideration in establishing the proposed scope and content of the EIS.

DATES: To ensure that all of the issues related to this proposal are addressed, DOE invites comments on the proposed scope and content of the EIS from all interested parties. Comments must be received by July 3, 2003, to ensure consideration. Late comments will be considered to the extent practicable. In addition to receiving comments in writing and by telephone [See ADDRESSES below], DOE will conduct a public scoping meeting in which agencies, organizations, and the general public are invited to present oral comments or suggestions with regard to the range of actions, alternatives, and impacts to be considered in the EIS. The scoping meeting will be held at Greenbrier West High School in Charmco, West Virginia on June 19, 2003, beginning at 7 p.m. (See Public Scoping Process). Greenbrier West High School is located on U.S. Route 60 approximately 10.3 miles west of I-64 Exit 156 at Sam Black Church. The public is invited to an informal session at this location beginning at 4 p.m. to learn more about the proposed action. Displays and other forms of information about the proposed agency action and the demonstration plant will be available, and DOE personnel will be present at the informal session to discuss the proposed project and the EIS process.

ADDRESSES: Written comments on the proposed EIS scope and requests to participate in the public scoping meeting should be addressed to the NEPA Document Manager for the Western Greenbrier Co-Production Demonstration Project: Mr. Mark L. McKoy, National Energy Technology Laboratory, U.S. Department of Energy, P.O. Box 880, Morgantown, WV 26507-0880.

People who want to participate in the public scoping process also may contact Mr. Mark L. McKoy directly at telephone 304-285-4426; toll free number 1-800-432-8330 (extension 4426); fax 304-285-4403; or e-mail mmckoy@netl.doe.gov.

FOR FURTHER INFORMATION CONTACT: To obtain additional information about this project or to receive a copy of the draft EIS for review when it is issued, contact Mr. Mark L. McKoy at the address provided above. For general information on the DOE NEPA process, please contact: Ms. Carol M. Borgstrom, Director, Office of NEPA Policy and Compliance (EH-42), U.S. Department of Energy, 1000 Independence Avenue, SW.,Washington, DC 20585-0119, Telephone: 202-586-4600, facsimile: 202-586-7031, or leave a toll-free message at 1-800-472-2756.

SUPPLEMENTARY INFORMATION:

Background and Need for Proposed Agency Action

Since the early 1970s, DOE and its predecessor agencies have pursued research and development programs that contain long-term, high-risk activities that support the development of innovative concepts for a wide variety of coal technologies through the proof-of-concept stage. However, the availability of a technology at the proof-of-concept stage is not sufficient to ensure its continued development and subsequent commercialization. Before any technology can be considered seriously for commercialization, it must be demonstrated. The financial risk associated with technology demonstration is, in general, too high for the private sector to assume in the absence of strong incentives. The Clean Coal Power Initiative (CCPI) was established in 2002 as a government/industry partnership to implement the President's National Energy Policy recommendation to increase investment in clean coal technology. This recommendation addresses a national challenge of ensuring the reliability of electricity supply while simultaneously protecting the environment. The goal of the CCPI program is to accelerate commercial deployment of advanced coal technologies that provide the United States with clean, reliable, and affordable energy. Through cooperative agreements established pursuant to the CCPI program, DOE would accelerate deployment of innovative technologies to meet near-term energy and environmental goals, reduce technological risks to the business community to an acceptable level, and provide private sector incentives required for continued activity in innovative research and development.

Proposed Action

The proposed action is for DOE to provide, through a 5-year cooperative agreement with Western Greenbrier Co-Gen LLC (WGC), financial assistance for a proposed demonstration project to co-produce heat and electric power in a new generating station at Rainelle, Greenbrier County, West Virginia. The new generating station would be designed for long-term commercial operation (at least 20 years) following completion of the cooperative agreement with DOE and would cost approximately $215 million. DOE's share would be approximately $107.5 million (50 percent).

WGC is proposing to design, construct, and operate an 85 MW (megawatt) atmospheric-pressure, circulating fluidized-bed boiler (ACFB) facility that would generate electricity and steam by burning approximately 1,800 tons per day of waste coal as the primary fuel. A coal-fired rotary kiln would be coupled with the power plant and would calcine coal ash and limestone into a cementitious material for use with wood wastes in the on-site manufacture of structural bricks and blocks (Woodbrik™).

The proposed facility would be the first commercial application within the United States of a fluidized bed combustor that would have a compact inverted cyclone design. This design would give the boiler system a 40 percent smaller footprint than a conventional boiler system of similar capacity, and would reduce structural steel requirements and construction costs by up to 60 percent. Additionally, the proposed brick making facility would be the first commercial demonstration of the Woodbrik™ process in the United States.

In addition to electricity and Woodbrik™ products, the proposed plant would co-produce steam and hot water and serve as the anchor tenant for a new environmentally balanced industrial park. This “Eco-Park” would use hot water produced from the plant's turbine exhaust to provide heating for buildings, agricultural activities and aquacultural activities. Steam would be used for various heating and industrial processes, which might include hardwood drying.

The source for the waste coal fuel for the plant would be a 4 million ton coal refuse site in Anjean, WV. If the Anjean site is not available, other nearby sites would supply the coal wastes. Any additional heating value requirements for the waste coal as a fuel would be supplied by blending with quality coal. Coal combustion ash that is not used in by-product manufacture at the proposed facility would be used to remediate acid drainage from the source coal waste piles. If successfully demonstrated, this technology could be applied to many regions of the country for reclaiming contaminated land where waste coal is currently stockpiled.

The proposed project site comprises approximately 26 acres located within or adjoining a 30-acre industrial park that is currently under development by the city of Rainelle. The site is approximately 160 kilometers (100 miles) southeast of the city of Charleston, West Virginia. The area can be reached by State Highway 60 and is less than 14 miles from I-64. Construction of the proposed plant would be expected to require approximately 27 months, following eight months of project definition and nine months of detailed design.

Alternatives

NEPA requires that agencies discuss the reasonable alternatives to the proposed action in an EIS. The purpose of the agency action determines the range of reasonable alternatives. In this case, the Clean Coal Power Initiative was established to help implement the President's National Energy Policy (NEP) recommendation to increase investment in clean coal technology by addressing national challenges of ensuring the reliability of domestic energy supplies while simultaneously protecting the environment. The CCPI program was structured to achieve NEP goals by promoting private sector initiatives to invest in demonstrations of advanced commerce-ready technologies through the use of Federal, cost-sharing, financial assistance awards. This approach puts DOE in a much more limited role than if the Federal government were the owner and operator of the project. In the latter situation, DOE would be responsible for a comprehensive analysis of reasonable alternative locations for the project. However, when dealing with applicants for financial assistance awards under the CCPI program, the scope of alternatives is necessarily more restricted because DOE must focus on alternative ways to accomplish its purpose that reflect both the applications before it and the functions that DOE plays in the decision process. As a grantor of financial assistance awards under a competitive open solicitation, DOE must give substantial deference to each applicant's needs in establishing a project's reasonable alternatives.

The range of reasonable options to be considered in the EIS for the WGC Demonstration Project is determined in accordance with the overall NEPA strategy. Because of DOE's limited role of providing financial assistance for the proposed Western Greenbrier Co-Production Demonstration Project, DOE currently plans to give primary emphasis to the proposed action and the no-action alternative. Under the no-action alternative, DOE would not provide partial funding for the design, construction, and operation of the proposed project. In the absence of DOE funding, the Western Greenbrier Co-Production Demonstration Project probably would not occur. If the proposed Western Greenbrier Co-Production Demonstration Project is not built, Western Greenbrier would need to consider other approaches to meet its goals, which could include the use of conventional technologies to produce electricity or using some other currently developing technology. DOE will consider other alternatives that may be suggested during the public scoping period.

Under the proposed action, project activities would include engineering and design, permitting, fabrication and construction, and testing of facilities that would demonstrate the proposed technologies. Upon completion of the demonstration phase, the facility would continue commercial operation.

Preliminary Identification of Environmental Issues

The following environmental issues have been tentatively identified for analysis in the EIS. This list was developed from analyses of the proposed technology, the scope of the proposed project, and similar projects. It is presented to facilitate public comment on the planned scope of the EIS and is neither intended to be all-inclusive nor a predetermined set of potential impacts. Additions to or deletions from this list may occur as a result of the public scoping process. Environmental issues include:

(1) Air quality impacts: potential impacts resulting from air emissions during operation of the power plant and kiln, impacts on local sensitive receptors, increases in local smog and haze, water vapor plumes, dust from construction and transportation, impacts on special-use areas;

(2) Noise and light impacts: potential impacts resulting from construction, transportation of materials, and plant operation;

(3) Traffic Issues: potential impacts resulting from the construction and operation of the proposed facility including changes in local traffic patterns, deterioration of roads, traffic hazards, traffic controls;

(4) Floodplains and wetlands: potential impacts on flood flow resulting from earthen fills, access roads and dikes constructed within the floodplain; impacts to wetlands;

(5) Visual impacts associated with plant structures: views from neighborhoods, impacts on scenic views, impacts from water vapor plumes and haze; internal and external perception of the local community;

(6) Reclamation impacts: potential impacts resulting from recovery of coal waste and from the reclamation of the waste coal source sites; mitigation of acid drainage from coal waste piles, and other environmental improvements;

(7) Water quality: potential impacts resulting from wastewater utilization and discharge, water usage, and reclamation of waste coal sites;

(8) Infrastructure and land use, including potential environmental and socioeconomic effects of plant construction, delivery of feed materials, recovery of waste coal, steam and heat distribution, electric power generation and transmission, WoodbrikTM production and distribution, and site restoration;

(9) Water usage: water consumption, potential effects on surface and groundwater resources and withdrawal of water from the municipal sewage treatment plant;

(10) Solid Waste: pollution prevention and waste management, including ash, slag, and wastewater treatment facility sludge;

(11) Cumulative effects that result from the incremental impacts of the proposed project when added to the other past, present, and reasonably foreseeable future projects;

(12) Ecological: Potential on-site and off-site impacts to vegetation, terrestrial wildlife, aquatic wildlife, threatened and endangered species, and ecologically sensitive habitats;

(13) Connected actions: Use of heat and energy from the plant for the adjoining Eco-Park;

(14) Compliance with regulatory requirements and environmental permitting; and

(15) Environmental monitoring.

Parts or all of the proposed power plant and brick manufacturing facility would occupy a floodplain along Sewell Creek, in Rainelle, West Virginia. Parts of the proposed facilities may occupy jurisdictional wetland areas on the floodplain. Therefore, in accordance with DOE regulations (10 CFR Part 1022), the final EIS will include a floodplain and wetlands assessment and a floodplain statement of findings.

Public Scoping Process

To ensure that all issues related to this proposal are addressed, DOE seeks public input to define the scope of the EIS. The public scoping period will end on July 3, 2003. Interested agencies, organizations and the general public are encouraged to submit comments or suggestions concerning the content of the EIS, issues and impacts to be addressed in the EIS, and alternatives that should be considered. Scoping comments should clearly describe specific issues or topics that the EIS should address to assist DOE in identifying significant issues. Written, e-mailed, faxed, or telephoned comments should be communicated by July 3, 2003 (see ADDRESSES).

DOE will conduct a public scoping meeting at Greenbrier West High School in Charmco, West Virginia on June 19, 2003 beginning at 7 p.m. Greenbrier West High School is located on U.S. Route 60 approximately 10.3 miles west of I-64 Exit 156 at Sam Black Church. In addition, the public is invited to an informational session at this location beginning at 4 p.m. to learn more about the proposed action. Displays and other information about the proposed agency action and location will be available, and DOE personnel will be present to discuss the proposed action and the NEPA process.

The formal scoping meeting will begin at 7 p.m. on June 19, 2003. Members of the public who wish to speak at this public scoping meeting should contact Mr. Mark L. McKoy, either by phone, fax, computer, or in writing (see ADDRESSES in this Notice). Those who do not arrange in advance to speak may register at the meeting (preferably at the beginning of the meeting) and may speak after previously scheduled speakers. Speakers who want more than five minutes should indicate the length of time desired in their request. Depending on the number of speakers, DOE may need to limit speakers to five minutes initially and provide additional opportunities as time permits. Speakers may also provide written materials to supplement their presentations. Oral and written comments will be given equal consideration.

DOE will begin the meeting with an overview of the proposed Western Greenbrier Co-Production Demonstration Project. The meeting will not be conducted as an evidentiary hearing, and speakers will not be cross-examined. However, speakers may be asked questions to help ensure that DOE fully understands the comments or suggestions. A presiding officer will establish the order of speakers and provide any additional procedures necessary to conduct the meeting.

Issued in Washington, DC, this 28th day of May, 2003.
Beverly A. Cook,
Assistant Secretary, Environment, Safety and Health.

[FR Doc. 03-13857 Filed 6-2-03; 8:45 am]

BILLING CODE 6450-01-P